DEPARTMENT OF ENERGY

Federal Energy Regulatory Commission Notice

June 18, 2003.

The following notice of meeting is published pursuant to section 3(A) of the Government in the Sunshine Act (Pub. L. 94-409), 5 U.S.C 552B:

Agency Holding Meeting: Federal Energy Regulatory Commission.

Date and Time: June 25, 2003, 10 a.m.

Place: Room 2C, 888 First Street, NE., Washington, DC 20426.

Status: Open.

Matters to be Considered: Agenda.

Note: Items listed on the agenda may be deleted without further notice.

Contact Person for More Information: Magalie R. Salas, Secretary, Telephone (202) 502-8400. For a recording listing items stricken from or added to the meeting, call (202) 502-8627.

This is a list of matters to be considered by the Commission. It does not include a listing of all papers relevant to the items on the agenda; however, all public documents may be examined in the Reference and Information Center.

832nd Meeting, June 25, 2003, Regular Meeting, 10 a.m.

Administrative Agenda

A-1.

Docket# AD02-1, 000, Agency Administrative Matters

A-2.

Docket# AD02-7, 000, Customer Matters, Reliability, Security and Market Operations

Markets, Tariffs and Rates—Electric

E-1.

Docket# EL03-77, 000, Enron Power Marketing, Inc. And Enron Energy Services, Inc.

Other#S RP03-311, 000, Bridgeline Gas Marketing L.L.C., Citrus Trading Corporation, ENA Upstream Company, LLC, Enron Canada Corp., Enron Compression Services Company, Enron Energy Services, Inc., Enron MW, L.L.C., and Enron North America Corp.

E-2.

Docket# EL03-123, 001, Richard Blumenthal, Attorney General of the State of Connecticut and The Connecticut Department of Public Utility Control v. NRG Power Marketing, Inc.

OTHER#S EL03-129, 000, Connecticut Light and Power Company

E-3.

Reserved

E-4.

Reserved

E-5.

Reserved

E-6.

Docket# EL01-10, 000, Puget Sound Energy, Inc., v. All Jurisdictional Sellers of Energy and/or Capacity at Wholesale into Electric Energy and/or Capacity Markets in the Pacific Northwest, Including Parties to the Western Systems Power Pool Agreement

Other#S EL01-10, 001, Puget Sound Energy, Inc., v. All Jurisdictional Sellers of Energy and/or Capacity at Wholesale into Electric Energy and/or Capacity Markets in the Pacific Northwest, Including Parties to the Western Systems Power Pool Agreement

EL01-10, 007, Puget Sound Energy, Inc., v. All Jurisdictional Sellers of Energy and/or Capacity at Wholesale into Electric Energy and/or Capacity Markets in the Pacific Northwest, Including Parties to the Western Systems Power Pool Agreement

EL01-10, 009, Puget Sound Energy, Inc., v. All Jurisdictional Sellers of Energy and/or Capacity at Wholesale into Electric Energy and/or Capacity Markets in the Pacific Northwest, Including Parties to the Western Systems Power Pool Agreement

E-7.

DOCKET# EL02-28, 000, Nevada Power Company and Sierra Pacific Power Company v. Enron Power Marketing, Inc., El Paso Merchant Energy and American Electric Power Services, Corp.

EL02-28, 002, Nevada Power Company and Sierra Pacific Power Company v. Enron Power Marketing, Inc., El Paso Merchant Energy and American Electric Power Services, Corp.

OTHER#S EL02-29, 000, Nevada Power Company v. Morgan Stanley Capital Group, Calpine Energy Services, Mirant Americas Energy Marketing, L.P., Reliant Energy Services, BP Energy Company and Allegheny Energy Supply Company, L.L.C.

EL02-29, 002, Nevada Power Company v. Morgan Stanley Capital Group, Calpine Energy Services, Mirant Americas Energy Marketing, L.P., Reliant Energy Services, BP Energy Company and Allegheny Energy Supply Company, L.L.C.

EL02-30, 000, Nevada Power Company v. Morgan Stanley Capital Group, Calpine Energy Services, Mirant Americas Energy Marketing, L.P., Reliant Energy Services, BP Energy Company and Allegheny Energy Supply Company, L.L.C.

EL02-30, 002, Nevada Power Company v. Morgan Stanley Capital Group, Calpine Energy Services, Mirant Americas Energy Marketing, L.P., Reliant Energy Services, BP Energy Company and Allegheny Energy Supply Company, L.L.C.

EL02-31, 000, Nevada Power Company v. Morgan Stanley Capital Group, Calpine Energy Services, Mirant Americas Energy Marketing, L.P., Reliant Energy Services, BP Energy Company and Allegheny Energy Supply Company, L.L.C.

EL02-31, 002, Nevada Power Company v. Morgan Stanley Capital Group, Calpine Energy Services, Mirant Americas Energy Marketing, L.P., Reliant Energy Services, BP Energy Company and Allegheny Energy Supply Company, L.L.C.

EL02-32, 000, Nevada Power Company v. Morgan Stanley Capital Group, Calpine Energy Services, Mirant Americas Energy Marketing, L.P., Reliant Energy Services, BP Energy Company and Allegheny Energy Supply Company, L.L.C.

EL02-32, 002, Nevada Power Company v. Morgan Stanley Capital Group, Calpine Energy Services, Mirant Americas Energy Marketing, L.P., Reliant Energy Services, BP Energy Company and Allegheny Energy Supply Company, L.L.C.

EL02-33, 000, Nevada Power Company and Sierra Pacific Power Company v. Enron Power Marketing, Inc., El Paso Merchant Energy and American Electric Power Services, Corp.

EL02-33, 002, Nevada Power Company and Sierra Pacific Power Company v. Enron Power Marketing, Inc., El Paso Merchant Energy and American Electric Power Services, Corp.

EL02-34, 000, Nevada Power Company v. Morgan Stanley Capital Group, Calpine Energy Services, Mirant Americas Energy Marketing, L.P., Reliant Energy Services, BP Energy Company and Allegheny Energy Supply Company, L.L.C.

EL02-34, 002, Nevada Power Company v. Morgan Stanley Capital Group, Calpine Energy Services, Mirant Americas Energy Marketing, L.P., Reliant Energy Services, BP Energy Company and Allegheny Energy Supply Company, L.L.C.

EL02-38, 000, Nevada Power Company and Sierra Pacific Power Company v. Enron Power Marketing, Inc., El Paso Merchant Energy and American Electric Power Services, Corp.

EL02-38, 002, Nevada Power Company and Sierra Pacific Power Company v. Enron Power Marketing, Inc., El Paso Merchant Energy and American Electric Power Services, Corp.

EL02-39, 000, Nevada Power Company v. Morgan Stanley Capital Group, Calpine Energy Services, Mirant Americas Energy Marketing, L.P., Reliant Energy Services, BP Energy Company and Allegheny Energy Supply Company, L.L.C.

EL02-39, 002, Nevada Power Company v. Morgan Stanley Capital Group, Calpine Energy Services, Mirant Americas Energy Marketing, L.P., Reliant Energy Services, BP Energy Company and Allegheny Energy Supply Company, L.L.C.

EL02-43, 000, Southern California Water Company v. Mirant Americas Energy Marketing

EL02-43, 002, Southern California Water Company v. Mirant Americas Energy Marketing

EL02-56, 000, Public Utility District No. 1 Snohomish County, Washington v. Morgan Stanley Capital Group, Inc.

EL02-56, 002, Public Utility District No. 1 Snohomish County, Washington v. Morgan Stanley Capital Group, Inc.

E-8.

DOCKET# EL02-60, 003, Public Utilities Commission of the State of California v. Sellers of Long Term Contracts to the California Department of Water Resources

OTHER#S EL02-62, 003, California Electricity Oversight Board v. Sellers of Energy and Capacity Under Long-Term Contracts with the California Department of Water Resources

E-9.

DOCKET# EL02-80, 002, PacifiCorp v. Reliant Energy Services, Inc., Morgan Stanley Capital Group Inc., Williams Energy Marketing & Trading Company, and El Paso Merchant Energy, L.P.

OTHER#S EL02-80, 001, PacifiCorp v. Reliant Energy Services, Inc., Morgan Stanley Capital Group Inc., Williams Energy Marketing & Trading Company, and El Paso Merchant Energy, L.P.

EL02-81, 001, PacifiCorp v. Reliant Energy Services, Inc., Morgan Stanley Capital Group Inc., Williams Energy Marketing & Trading Company, and El Paso Merchant Energy, L.P.

EL02-81, 002, PacifiCorp v. Reliant Energy Services, Inc., Morgan Stanley Capital Group Inc.,Williams Energy Marketing & Trading Company, and El Paso Merchant Energy, L.P.

EL02-82, 001, PacifiCorp v. Reliant Energy Services, Inc., Morgan Stanley Capital Group Inc., Williams Energy Marketing & Trading Company, and El Paso Merchant Energy, L.P.

EL02-82, 002, PacifiCorp v. Reliant Energy Services, Inc., Morgan Stanley Capital Group Inc., Williams Energy Marketing & Trading Company, and El Paso Merchant Energy, L.P.

EL02-83, 001, PacifiCorp v. Reliant Energy Services, Inc., Morgan Stanley Capital Group Inc., Williams Energy Marketing & Trading Company, and El Paso Merchant Energy, L.P.

EL02-83, 002, PacifiCorp v. Reliant Energy Services, Inc., Morgan Stanley Capital Group Inc., Williams Energy Marketing & Trading Company, and El Paso Merchant Energy, L.P.

E-10.

Omitted

E-11.

Docket# ER03-793, 000, New England Power Companny

E-12.

Docket# ER03-807, 000, PJM Interconnection, L.L.C.

E-13.

Docket# ER03-708, 000, Pacific Gas and Electric Company

E-14.

Docket# ER03-811, 000, Entergy Services, Inc

E-15.

Docket# ER03-810, 000, New York Independent System Operator, Inc.

E-16.

Docket# ER03-830, 000, California Power Exchange Corporation

E-17.

Docket# ER03-836, 000, New York Independent Transmission System Operator, Inc.

E-18.

Docket# ER03-684, 000, Wisconsin Power and Light Company

E-19.

Docket# SC00-1, 001, Montana Power Company

E-20.

Docket# ER03-37, 000, Sierra Pacific Power Company and Nevada Power Company

Other#s ER02-2609, 000, Sierra Pacific Power Company and Nevada Power Company

E-21.

Docket# ER03-83, 000, TRANSLink Development Company, LLC

E-22.

Docket# ER03-791, 000, California Power Exchange Corporation

E-23.

Docket# ER0,3-875, 000, California Independent System Operator Corporation

E-24.

Omitted

E-25.

Omitted

E-26.

Docket# ER02-2014, 010, Entergy Services, Inc.

E-27.

Docket# ER01-2214, 002, Entergy Services, Inc.

E-28.

Omitted

E-29.

Docket# ER03-242, 001, American Electric Power Service Corporation

Other#s ER03-242, 002, American Electric Power Service Corporation

E-30.

Omitted

E-31.

Docket# ER01-3141, 001, American Electric Power Service Corporation

Other#S ER01,-3141, 002 American Electric Power Service Corporation

ER01-3141, 003, American Electric Power Service Corporation

E-32.

Omitted

E-33.

Omitted

E-34.

Docket# EL02-128, 001, Sithe New England Holdings, LLC v. ISO New England, Inc.

E-35.

Docket# ES02-51, 001, Westar Energy, Inc.

E-36.

Docket# ER98-1438, 015, Midwest Independent Transmission System Operator, Inc.

Other#s EC98-24, 009, Midwest Independent Transmission System Operator, Inc.

ER01-479, 005, Midwest Independent Transmission System Operator, Inc.

E-37.

Docket# EC03-40, 001, ITC Holdings Corp., ITC Holdings Limited Partnership, International Transmission Co., DTE Energy Co. and Detroit Edison Co.

Other#s EC03-40, 002, ITC Holdings Corp., ITC Holdings Limited Partnership, International Transmission Co., DTE Energy Co. and Detroit Edison Co.

ER03-343, 001, ITC Holdings Corp., ITC Holdings Limited Partnership, International Transmission Co., DTE Energy Co. and Detroit Edison Co.

ER03-343, 002, ITC Holdings Corp., ITC Holdings Limited Partnership, International Transmission Co., DTE Energy Co. and Detroit Edison Co.

E-38.

Omitted

E-39.

Omitted

E-40.

Omitted

E-41.

Omitted

E-42.

Omitted

E-43.

Docket# ER03-366, 001, Midwest Independent Transmission System Operator, Inc.

Other#s ER03-366, 002, Midwest Independent Transmission System Operator, Inc.

ER03-366, 003, Midwest Independent Transmission System Operator, Inc.

ER03-368, 001, Midwest Independent Transmission System Operator, Inc.

ER03-368, 003, Midwest Independent Transmission System Operator, Inc.

ER03-368, 004, Midwest Independent Transmission System Operator, Inc.

E-44.

Omitted

E-45.

Omitted

E-46.

Docket# EL00-95, 000, San Diego Gas & Electric Company v. Sellers of Energy and Ancillary Services into Markets Operated by the California Independent System Operator Corporation and the California Power Exchange

Other#s EL00-95, 045, San Diego Gas & Electric Company v. Sellers of Energy and Ancillary Services into Markets Operated by the California Independent System Operator Corporation and the California Power Exchange

EL00-95, 069, San Diego Gas & Electric Company v. Sellers of Energy and Ancillary Services into Markets Operated by the California Independent System Operator Corporation and the California Power Exchange

EL00-98, 000, Investigation of Practices of the California Independent System Operator and the California Power Exchange

EL00-98, 042, Investigation of Practices of the California Independent System Operator and the California Power Exchange

EL00-98, 058, Investigation of Practices of the California Independent System Operator and the California Power Exchange

PA02-2, 000, Fact-Finding Investigation into Possible Manipulation of Electric and Natural Gas Prices

EL02-113, 000, El Paso Electric Company, Enron Power Marketing, Inc., Enron Capital and Trade Resources Corporation

EL02-114, 000, Portland General Electric Company

EL02-115, 000, Avista Corporation and Avista Energy

EL02-115, 001, Enron Power Marketing, Inc.

EL03-59, 000, Reliant Energy Services, Inc.

EL03-60, 000, BP Energy Company

EL03-77, 000, Enron Power Marketing, Inc., and Enron Energy Services, Inc.

RP03-311, 000, Bridgeline Gas Marketing, L.L.C., Citrus Trading Corporation, ENA Upstream Company, LLC, Enron Canada Corp., Enron Compression Services Company, Enron Energy Services, Inc., Enron MW, L.L.C., and Enron North America Corp.

E-47.

Docket# EL03-55, 000, AES Warrior Run, Inc. v. Potomac Edison Company d/b/a Allegheny Power

E-48.

Docket# EL03-37, 000, Town of Norwood, Massachusetts v. National Grid USA, New England Electric System, Massachusetts Electric Company and Narragansett Electric Light Company

E-49.

Omitted

E-50.

Docket# AC03-20, 000, American Electric Power Service Corporation

E-51.

Docket# ER99-2326, 000, Pacific Gas and Electric Company

Other#S EL99-68, 000, Pacific Gas and Electric Company

E-52.

Docket# EL01-22, 002, Idaho Power Company

E-53.

Omitted

E-54.

Docket# EL01-118, 000, Investigation of Terms and Conditions of Public Utility Market-Based Rate Authorizations

Other#S EL01-118, 001, Investigation of Terms and Conditions of Public Utility Market-Based Rate Authorizations

E-55.

Docket# EL01-122, 005, PJM Interconnection, L.L.C.

E-56.

Docket# ER03-835, 000, PJM Interconnection, L.L.C.

E-57.

Docket# ER03-806, 000, Sierra Pacific Power Company and Nevada Power Company

E-58.

Docket# ER03-31, 001, United Illuminating Company

Other#s ER03-31, 000, United Illuminating Company

Miscellaneous Agenda

M-1.

Docket# RM02-14, 000, Regulation of Cash Management Practices

M-2.

Docket# RM03-8, 000, Quarterly Financial Reporting and Revisions To the Annual Reports

Markets, Tariffs and Rates—Gas

G-1.

Docket# RP03-485, 000, Honeoye Storage Corporation

G-2.

Docket# RP03-431, 000, Maritimes & Northeast Pipeline, L.L.C.

G-3.

Docket# RP03-435, 000, Texas Gas Transmission Corporation

G-4.

Docket# RP03-438, 000, Texas Eastern Transmission, L.P.

G-5.

Docket# RP03-420, 000, Iroquois Gas Transmission System, L.P.

G-6.

Docket# RP03-433, 000, Energy West Development, Inc.

G-7.

Docket# RP03-472, 000, Black Marlin Pipeline Company

G-8.

Docket# RP03-457, 000, Algonquin Gas Transmission Company

G-9.

Docket# RP03-384, 000, North Baja Pipeline, LLC

G-10.

DOCKET# PR03-7, 000, AIM Pipeline, LLC

OTHER#S PR03-7, 001, AIM Pipeline, LLC

G-11.

DOCKET# RP98-54, 000, Colorado Interstate Gas Company

OTHER#S SA98-4, 000, Edgar W. White

G-12.

DOCKET# RP03-135, 000, Southern Star Central Gas Pipeline, Inc.

OTHER#S RP03-135, 001, Southern Star Central Gas Pipeline, Inc.

G-13.

DOCKET# RP00-337, 005, Kern River Gas Transmission Company

G-14.

DOCKET# RP96-320, 058, Gulf South Pipeline Company, LP.

G-15.

DOCKET# RP03-314, 001, Northern Natural Gas Company

G-16.

OMITTED

G-17.

OMITTED

G-18.

DOCKET# RP03-41, 003, e prime, inc. v. PG&E Gas Transmission, Northwest Corporation

G-19.

DOCKET# RP00-205, 006, PG&E Gas Transmission, Northwest Corporation

G-20.

DOCKET# RP00-107, 000, Williston Basin Interstate Pipeline Company

G-21.

OMITTED

G-22.

DOCKET# RP00-326, 002, Columbia Gulf Transmission Company

OTHER#S RP00-326, 003, Columbia Gulf Transmission Company

RP00-605, 002, Columbia Gulf Transmission Company

RP00-605, 003, Columbia Gulf Transmission Company

RP02-39, 003, Columbia Gulf Transmission Company

RP02-39, 004, Columbia Gulf Transmission Company

G-23.

DOCKET# RP03-403, 000, PG&E Gas Transmission, Northwest Corporation

G-24.

DOCKET# RM03-10, 000, Amendments to Blanket Sales Certificates

G-25.

DOCKET# PR03-14, 000, Tractebel Energy Marketing, Inc., v. Hill-Lake Storage, L.P.

G-26.

DOCKET# RP03-483, 000, Northwest Pipeline Corporation

G-27.

DOCKET# IS03-150, 001, Shell Pipeline Company LP

G-28.

OMITTED

G-29.

DOCKET# RP96-200, 103, CenterPoint Energy Gas Transmission Company

G-30.

DOCKET# RP00-487, 001, Tuscarora Gas Transmission Company

OTHER#S RP01-14, 001, Tuscarora Gas Transmission Company

Energy Projects—Hydro

H-1.

DOCKET# P-2016, 056, City of Tacoma, Washington

H-2.

DOCKET# P-6032, 051, Niagara Mohawk Power Corporation

H-3.

DOCKET# P-10455, 023, JDJ Energy Company

Energy Projects—Certificates

C-1.

DOCKET# CP01-415, 008, East Tennessee Natural Gas Company

C-2.

DOCKET# CP02-116, 002, Tennessee Gas Pipeline Company

OTHER#S CP02-117, 002, Tennessee Gas Pipeline Company

C-3.

DOCKET# CP03-40, 000, Sid Richardson Energy Services, Ltd.

C-4.

DOCKET# CP02-233, 000, Equitrans, L.P. and Carnegie Interstate Pipeline Company

Magalie R. Salas,
Secretary.

[FR Doc. 03-15975 Filed 6-19-03; 4:18 pm]

BILLING CODE 6717-01-P